DEPARTMENT OF TRANSPORTATION

Federal Aviation Administration

Approval Guidelines for Airborne Software

AGENCY: Federal Aviation Administration, DOT.

ACTION: Notice of availability for public comment.

SUMMARY: This notice announces the availability of and requests comments on a proposed Order that guides the Aircraft Certification Service (AIR) field offices (that is, Aircraft Certification Offices and Manufacturing Inspection District or Satellite Offices) and Designated Engineering Representatives (DER) on how to apply RTCA/DO-17B, “Software Considerations in Airborne Systems and Equipment Certification,” for approving airborne software. Advisory Circular (AC) 20-115B, RTCA, Inc. Document RTCA/DO-178B, recognizes RTCA/DO-178B as an acceptable means of compliance for securing the Federal Aviation Administration's (FAA) approval of software in airborne systems and equipment. The proposed Order establishes guidelines for approving software in compliance with RTCA/DO-178B. The guidelines are applicable to the approval of airborne systems and equipment and the software aspects of those systems related to type certificates (TC), supplemental type certificates (STC), amended type certificates (ATC), amended supplemental type certificates (ASTC), and technical standard order (TSO) authorizations.

DATES: Comments must be received on or before January 21, 2003.

ADDRESSES: Send all comments on the proposed Order to: Technical Programs & Continued Airworthiness Branch, AIR-120, Aircraft Engineering Division, Aircraft Certification Service, Federal Aviation Administration 800 Independence Avenue, SW., Room 835, Washington, DC 20591. Or deliver comments to: Federal Aviation Administration (FAA), Room 835, 800 Independence Avenue, SW., Washington, DC 20591. Comments must identify the Order file number.

FOR FURTHER INFORMATION CONTACT: Mr. John Lewis, Technical Programs & Continued Airworthiness Branch, AIR-120, Aircraft Engineering Division, Aircraft Certification Service, Federal Aviation Administration, 800 Independence Avenue, SW., Room 835, Washington, DC 20591; Telephone No. (202) 493-4841; FAX No. (202) 267-5340; E-mail address: John.Lewis@faa.gov.

SUPPLEMENTARY INFORMATION:

Comments Invited

You are invited to comment on the proposed Order by submitting written data, views, or arguments to the above specified address. Comments received on the proposed Order may be examined, before and after the comment closing date, Room 835, FAA Headquarters Building (FOB-10A), 800 Independence Avenue, SW., Washington, DC 20591, weekdays except Federal holidays, between 8:30 a.m. and 4:30 p.m. The Director, Aircraft Certification Service will consider all communications received on or before the closing date for comments before issuing the final Order.

Background

Between 1998-2002, the FAA produced a number of software-related notices to provide guidelines for FAA Aviation Safety Engineers (ASE), Aviation Safety Inspectors (ASI), and DERs in various areas of software approval. The proposed Order combines those notices into a single document. On January 11, 1993, the FAA issued AC 20-115B which recognizes RTCA/DO-178B as a means of demonstrating compliance to regulations for the software aspects of airborne systems and equipment certification. The proposed Order assumes that RTCA/DO-178B is the means of compliance proposed by the applicant for software approval (except where previously developed software and legacy systems are addressed). If the applicant proposes other means, additional policy and FAA guidance may be needed on a project-by-project basis.

How To Obtain Copies

You may obtain a copy of the proposed Order via Internet (http://av-info.faa.gov/software/drafts.htm) or by inquiring at the office listed under FOR FURTHER INFORMATION CONTACT. Copies of Document No. RTCA/DO-178B may be purchased from the RTCA Inc., 1828 L Street, NW., Suite 807, Washington, DC 20036 (Web-site: http://www.rtca.org).

You may inspect the RTCA document at the FAA office location listed under ADDRESSES. However, RTCA documents are copyrighted and may not be reproduced without the written consent of RTCA, Inc.

Issued in Washington, DC, on December 12, 2002.
Carol Martineau,
Acting Manager, Aircraft Engineering Division, Aircraft Certification Service.

[FR Doc. 02-31887 Filed 12-17-02; 8:45 am]

BILLING CODE 4910-13-M